LEGAL SERVICES CORPORATION

Notice and Request for Comments: LSC merger of the migrant service areas in Texas, Arkansas, Kentucky, Louisiana, Mississippi, Tennessee, and Alabama

AGENCY: Legal Services Corporation.

ACTION: Notice and Request for Comments—LSC merger of the migrant service areas in Texas, Arkansas, Kentucky, Louisiana, Mississippi, Tennessee, and Alabama.

SUMMARY: The Legal Services Corporation (LSC) intends to merge the Texas, Arkansas, Kentucky, Louisiana, Mississippi, Tennessee, and Alabama migrant service areas. Grants for these individual service areas have been awarded to Texas RioGrande Legal Aid (TRLA) since 2001. For 2014, LSC will award TRLA 1-year grants for these migrant service areas. LSC intends to merge the seven migrant service area grants into one regional service area grant. Doing so will harmonize the grant structure with the longstanding delivery model.

DATES: All comments must be received on or before the close of business on January 27, 2014.

ADDRESSES: Written comments may be submitted to LSC by email to competition@lsc.gov (this is the preferred option); by submitting a form online at http://www.lsc.gov/contact-us; by mail to Legal Services Corporation, 3333 K Street NW., Third Floor, Washington, DC 20007, Attention: Reginald Haley; or by fax to 202-337-6813.

FOR FURTHER INFORMATION CONTACT: Reginald J. Haley, Office of Program Performance, Legal Services Corporation, 3333 K St., NW., Washington, DC 20007; or by email at haleyr@lsc.gov.

SUPPLEMENTARY INFORMATION: The mission of LSC is to promote equal access to justice and to provide funding for high-quality civil legal assistance to low-income persons. Pursuant to its statutory authority, LSC designates service areas in U.S. states, territories, possessions, and the District of Columbia for which it provides grants to legal aid programs to provide free civil legal services.

The LSC Act charges LSC with ensuring that “grants and contracts are made so as to provide the most economical and effective delivery of legal assistance to persons in both urban and rural areas.” 42 U.S.C. 2996f(a)(3). The LSC Act also required LSC to study the legal needs of migrants or seasonal farm workers and implement recommended approaches to meet their special legal needs. 42 U.S.C. 2996f(h).

The regional approach to migrant delivery accomplished by merging the Texas, Arkansas, Kentucky, Louisiana, Mississippi, Tennessee, and Alabama migrant service areas would provide a more economical and effective delivery approach for serving the legal needs of migrants than a state-by-state delivery system would. This model serves two primary purposes—(1) it enables the grantee to pool the funds for these migrant service areas to provide services more effectively to respond to the needs of the migratory workers and families across the region, and (2) it enables LSC to fund a single entity to provide migrant services efficiently to all of these areas.

LSC provides grants through a competitive bidding process, which is regulated by 45 CFR Part 1634. In 2013, LSC implemented a competitive grants process for 2014 calendar year funding that included, inter alia, the Texas, Arkansas, Kentucky, Louisiana, Mississippi, Tennessee, and Alabama migrant service areas. For 2014, LSC will award TRLA 1-year grants for the migrant service areas in Texas, Arkansas, Kentucky, Louisiana, Mississippi, Tennessee, and Alabama. These grants are effective January 1, 2014, through December 31, 2014. LSC intends to merge the Texas, Arkansas, Kentucky, Louisiana, Mississippi, Tennessee, and Alabama migrant service areas into a single migrant service area and merge the 2014 grants to those service areas into a single grant beginning February 3, 2014.

LSC invites public comment on this decision. Interested parties may submit comments to LSC no later than the close of business on January 27, 2014. More information about LSC can be found at: http://www.lsc.gov.

Dated: December 20, 2013
Atitaya C. Rok,
Staff Attorney.

[FR Doc. 2013-30836 Filed 12-24-13; 8:45 am]

BILLING CODE 7050-01-P